FEDERAL ELECTION COMMISSION

Sunshine Act Meetings

TIME AND DATE: Tuesday, March 25, 2025, at 10:00 a.m. and its continuation at the conclusion of the open meeting on March 27, 2025.

PLACE: 1050 First Street NE, Washington, DC and virtual. (This meeting will be a hybrid meeting.)

STATUS: This meeting will be closed to the public.

MATTERS TO BE CONSIDERED: Compliance matters pursuant to 52 U.S.C. 30109.

Matters concerning participation in civil actions or proceedings or arbitration.

ADDITIONAL INFORMATION: This meeting will be cancelled if the Commission is not open due to a funding lapse.

CONTACT PERSON FOR MORE INFORMATION: Myles Martin, Deputy Press Officer. Telephone: (202) 694-1221.

(Authority: Government in the Sunshine Act, 5 U.S.C. 552b)

Laura E. Sinam,
Secretary and Clerk of the Commission.

[FR Doc. 2025-04401 Filed 3-13-25; 11:15 am]

BILLING CODE 6715-01-P